NUCLEAR REGULATORY COMMISSION

Change in Proficiency Testing Standard for Processors of Personal Dosimeters

AGENCY: Nuclear Regulatory Commission.

ACTION: Notice of change of proficiency testing standard.

SUMMARY: The U.S. Nuclear Regulatory Commission (NRC) and the National Institute of Standards and Technology (NIST), U.S. Department of Commerce, began a joint effort in 1981, through an Interagency Agreement, to provide an accreditation program for processors of personnel dosimeters. That accreditation program, which is part of the Technology Administration of the U.S. Department of Commerce, is known as the National Voluntary Laboratory Accreditation Program (NVLAP) for Ionizing Radiation Dosimetry and is referred to as NIST/NVLAP. The purpose of this notice is to: (1) Acknowledge publication of a revised proficiency testing standard for personnel dosimetry performance by NIST/NVLAP; (2) inform the public and dosimetry processors of this action; and (3) identify significant changes in the standard.

EFFECTIVE DATE: April 11, 2002.

FOR FURTHER INFORMATION, CONTACT: Betty Ann Torres, Office of Nuclear Material Safety and Safeguards, U.S. Nuclear Regulatory Commission, Washington, DC 20555-0001, telephone 301-415-0191, e-mail: BAT@nrc.gov, or Carroll S. Brickenkamp, National Institute of Standards and Technology, Department of Commerce, NVLAP, Building 820, Room 286, Gaithersburg, MD 20899, telephone 301-975-4291, e-mail: cbrickenkamp@nist.gov.

SUPPLEMENTARY INFORMATION: NRC's regulations (10 CFR 20.1501) require that personnel dosimeters that need to be processed to determine dose must be processed and evaluated by a dosimetry processor that holds current personnel dosimetry accreditation from the NIST/NVLAP. Proficiency testing, currently required as part of the NIST/NVLAP accreditation process for Ionizing Radiation Dosimetry, is based on the standard issued by the American National Standard Institute (ANSI) and the Health Physics Society (HPS) for personnel dosimetry performance, ANSI/HPS N13.11-1993, as modified by NVLAP Bulletin Volume II, No. 1, “DOSIMETRY” (January, 1995). The bulletin modifies dose equivalent conversion factors (Ck) found in Tables 2, 3, and C3 of ANSI/HPS N13.11-1993.

A revision of ANSI/HPS N13.11-1993 was approved by the American National Standards Institute, Inc. in July 2001, and published as ANSI/HPS N13.11-2001 in October 2001. A copy of the revised standard is available for a fee from the Health Physics Society at the following internet address: http://www.hps.org.

The revision: (1) Adopts the conversion coefficients for photons issued by NVLAP Bulletin Volume II, No. 1, “DOSIMETRY” (January, 1995); (2) reduces the number of test categories, based on radiation type and energy spectrum, from nine to six; (3) increases the number of possible radiation sources for test categories to which dosimeters can be exposed during testing; (4) lowers the permitted tolerance for all non-accident categories; (5) adds an angle test to the photon category; and (6) limits the number of individual dosimeters tested that is permitted to exceed the tolerance level for non-accident, non-neutron categories.

NVLAP has determined that the revised standard, ANSI/HPS N13.11-2001, will be implemented in the accreditation process as published. Contact Carroll Brickenkamp of NIST/NVLAP for information regarding the implementation of the revised standard, ANSI/HPS N13.11-2001.

Dated at Rockville, Maryland, this 4th day of April, 2002.
For the Nuclear Regulatory Commission.
Donald A. Cool,
Director, Division of Industrial and Medical Nuclear Safety, Office of Nuclear Material Safety and Safeguards.

[FR Doc. 02-8793 Filed 4-10-02; 8:45 am]

BILLING CODE 7590-01-P